DEPARTMENT OF DEFENSE

Department of the Navy

Notice of Extension of Scoping Period for the Supplemental Environmental Impact Statement/Overseas Environmental Impact Statement for Northwest Training and Testing

AGENCY: Department of the Navy, DoD.

ACTION: Notice.

SUMMARY: A notice of intent was published by the U.S. Environmental Protection Agency in the Federal Register (82 FR 39779) on August 22, 2017 for the supplement to the 2015 Final Northwest Training and Testing (NWTT) Environmental Impact Statement/Overseas Environmental Impact Statement (EIS/OEIS). The 30-day scoping period ends on September 21, 2017. This notice announces a 15-day extension of the scoping period until October 6, 2017.

DATES: Public comments will be accepted during the 45-day scoping period from August 22, 2017 to October 6, 2017.

ADDRESSES: Comments may be provided via mail to the address provided below or through the project Web site at http://nwtteis.com/. Comments must be postmarked or received online by October 6, 2017 for consideration during the development of the Supplemental EIS/OEIS. Anyone interested in receiving electronic project updates can subscribe on the project Web site to receive notifications via email for key milestones throughout the environmental planning process.

FOR FURTHER INFORMATION CONTACT: Mr. John Mosher, 360-257-3234, john.g.mosher@navy.mil. U.S. Pacific Fleet, Attention: NWTT Supplemental EIS/OEIS Project Manager, 3730 North Charles Porter Avenue, Building 385, Oak Harbor, Washington 98278-3500.

Dated: September 14, 2017.
S.E. Milewski,
Deputy Division Director, Administrative Law Division, Judge Advocate General's Corps, U.S. Navy, Alternate Federal Register Liaison Officer.

[FR Doc. 2017-20013 Filed 9-19-17; 8:45 am]

BILLING CODE 3810-FF-P